DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest. OFAC is also updating the entry on the SDN List for one person.

DATES: This action was issued on December 19, 2024. See SUPPLEMENTARY INFORMATION for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 19, 2024, OFAC determined that the property and interests in property subject to U.S. jurisdiction of the following persons are blocked under the relevant sanctions authorities listed below.

Individuals

1. ABD-AL-WADUD, Wail Muhammad Said (a.k.a. ABDULWADOD, Wail Mohammed Saeed), Yemen; DOB 10 Feb 1994; POB Hodaidah, Yemen; nationality Yemen; Gender Male; Secondary sanctions risk: section 1(b) of Executive Order 13224, as amended by Executive Order 13886; Passport 07872046 (Yemen) expires 25 Jul 2028 (individual) [SDGT] (Linked To: ANSARALLAH).

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having acted or purported to act for or on behalf of, directly or indirectly, ANSARALLAH, a person whose property and interests in property are blocked pursuant to E.O. 13224, as amended.

2. HAJJ, Umar Ahmad Umar Ahmad (a.k.a. HAG, Omar Ahmed Omar Ahmed), Yemen; DOB 03 Feb 1994; POB Hodaidah, Yemen; nationality Yemen; Gender Male; Secondary sanctions risk: section 1(b) of Executive Order 13224, as amended by Executive Order 13886; Passport 06138572 (Yemen) expires 26 Mar 2030 (individual) [SDGT] (Linked To: ANSARALLAH).

Designated pursuant to section 1(a)(iii)(A) of E.O. 13224, as amended, for having acted or purported to act for or on behalf of, directly or indirectly, ANSARALLAH, a person whose property and interests in property are blocked pursuant to E.O. 13224, as amended.

3. AL-MADANI, Hashem Ismail Ali Ahmed (a.k.a. “ESMAIL ALI AHMED, Hashem”), Yemen; DOB 01 Jan 1984; nationality Yemen; Gender Male; Secondary sanctions risk: section 1(b) of Executive Order 13224, as amended by Executive Order 13886; Passport 06120128 (Yemen) expires 19 Feb 2026 (individual) [SDGT] (Linked To: ANSARALLAH).

Designated pursuant to section 1(a)(iii)(A) of E.O. 13224, as amended, for having acted or purported to act for or on behalf of, directly or indirectly, ANSARALLAH, a person whose property and interests in property are blocked pursuant to E.O. 13224, as amended.

4. AL-HADI, Ahmad Muhammad Muhammad Hasan (a.k.a. AL HADI, Ahmad), Yemen; DOB 02 Apr 1970; nationality Yemen; Gender Male; Secondary sanctions risk: section 1(b) of Executive Order 13224, as amended by Executive Order 13886 (individual) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

5. VENAYAGAMOORTHY, Puvaneswaran, Kuala Lumpur, Malaysia; DOB 27 Feb 1984; nationality Malaysia; Gender Male; Secondary sanctions risk: section 1(b) of Executive Order 13224, as amended by Executive Order 13886; Passport A23472357 (Malaysia); National ID No. 840227145143 (Malaysia) (individual) [SDGT] (Linked To: MERKUR ENERGY PORT SERVICES SDN BHD).

Designated pursuant to section 1(a)(iii)(B) of E.O. 13224, as amended, for owning or controlling, directly or indirectly, MERKUR ENERGY PORT SERVICES SDN BHD, a person whose property and interests in property are blocked pursuant to E.O. 13224, as amended.

6. KANNIAPPAN, JR, Ezekial, Kuala Lumpur, Malaysia; DOB 10 Jul 1980; nationality Malaysia; Gender Male; Secondary sanctions risk: section 1(b) of Executive Order 13224, as amended by Executive Order 13886; Passport A36564463 (Malaysia) (individual) [SDGT] (Linked To: MERKUR ENERGY PORT SERVICES SDN BHD).

Designated pursuant to section 1(a)(iii)(A) of E.O. 13224, as amended, for having acted or purported to act for or on behalf of, directly or indirectly, MERKUR ENERGY PORT SERVICES SDN BHD, a person whose property and interests in property are blocked pursuant to E.O. 13224, as amended.

Entities

BILLING CODE 4810-AL-P

BILLING CODE 4810-AL-C

On December 19, 2024, OFAC also identified the following vessels as property in which a blocked person has an interest under the relevant sanctions authority listed below.

Vessels

1. MS ENOLA (a.k.a. KOHO I) (J2GJ) Crude Oil Tanker Djibouti flag; Vessel Registration Identification IMO 9251951; MMSI 621819078 (vessel) [IRAN-EO13902] (Linked To: JOURNEY INVESTMENT COMPANY).

Identified as property in which JOURNEY INVESTMENT COMPANY, a person whose property and interests in property are blocked pursuant to E.O. 13902, has an interest.

2. MS ANGIA (a.k.a. GATHER VIEW) (T7Ax8) Crude Oil Tanker San Marino flag; Vessel Registration Identification IMO 9246281; MMSI 268241201 (vessel) [IRAN-EO13902] (Linked To: ROSE SHIPPING LIMITED).

Identified as property in which ROSE SHIPPING LIMITED, a person whose property and interests in property are blocked pursuant to E.O. 13902, has an interest.

3. MS MELENIA (3FSO7) Crude Oil Tanker Panama flag; Other Vessel Flag Djibouti; Vessel Registration Identification IMO 9302023; MMSI 374128000 (vessel) [IRAN-EO13902] (Linked To: ROSE SHIPPING LIMITED).

Identified as property in which ROSE SHIPPING LIMITED, a person whose property and interests in property are blocked pursuant to E.O. 13902, has an interest.

On December 19, 2024, OFAC updated the entry on the SDN List for the following person, whose property and interests in property subject to U.S. jurisdiction continue to be blocked under the relevant sanctions authority listed below.

Individual

The Secretary of State has identified the following person in a list submitted to the appropriate congressional committees pursuant to section 106(a) of the Countering America's Adversaries Through Sanctions Act (CAATSA). The Secretary of State has determined that such person, on or after the date of enactment of CAATSA, is responsible for extrajudicial killings, torture, or other gross violations of internationally recognized human rights committed against individuals in Iran who seek: (a) to expose illegal activity carried out by officials of the Government of Iran; or (b) to obtain, exercise, defend, or promote internationally recognized human rights and freedoms, such as the freedoms of religion, expression, association, and assembly, and the rights to a fair trial and democratic elections. On December 19, 2024, OFAC, acting pursuant to delegated authority, has taken the action described below to impose the sanctions set forth in section 106(b)(1) of CAATSA with respect to the person listed below.

Entity

1. GHEZEL HESAR PRISON (a.k.a. GHEZEL HESAR PENITENTIARY; a.k.a. QEZEL HESAR PENITENTIARY), Payam Rd, Mehrshahr, Karaj, Alborz Province, Iran; Additional Sanctions Information—Subject to Secondary Sanctions [CAATSA—IRAN].

Pursuant to section 106(b) of CAATSA, OFAC has blocked all transactions in all property and interests in property that are in the United States, come within the United States, or come within the possession or control of any United States person, of the above person. This person has been added to the SDN List and includes the identifying tag “CAATSA—IRAN.”

Lisa M. Palluconi,
Acting Director, Office of Foreign Assets Control.

[FR Doc. 2024-30861 Filed 12-27-24; 8:45 am]

BILLING CODE 4810-AL-P